DEPARTMENT OF ENERGY

Federal Energy Regulatory Commission

Combined Notice of Filings #2

Take notice that the Commission received the following electric rate filings:

Docket Numbers: ER14-263-000.

Applicants: Midcontinent Independent System Operator, Inc.

Description: Midcontinent Independent System Operator, Inc. submits tariff filing per 35.13(a)(2)(iii): 11-1-2013 Ameren-Mt. Carmel WDS to be effective 4/1/2011.

Filed Date: 11/1/13.

Accession Number: 20131101-5080.

Comments Due: 5 p.m. ET 11/22/13.

Docket Numbers: ER14-264-000.

Applicants: Bangor Hydro Electric Company.

Description: Bangor Hydro Electric Company submits tariff filing per 35.1: Filing to Effect Succession to Bangor Hydro Electric Company MBR Tariff to be effective 1/1/2014.

Filed Date: 11/1/13.

Accession Number: 20131101-5082.

Comments Due: 5 p.m. ET 11/22/13.

Docket Numbers: ER14-265-000.

Applicants: Bangor Hydro Electric Company.

Description: Bangor Hydro Electric Company submits tariff filing per 35.15: Filing to Effect Cancellation of Existing eTariff Database to be effective 1/1/2014.

Filed Date: 11/1/13.

Accession Number: 20131101-5087.

Comments Due: 5 p.m. ET 11/22/13.

Docket Numbers: ER14-266-000.

Applicants: ISO New England Inc.

Description: ISO New England Inc. Entergy Resource Termination.

Filed Date: 11/1/13.

Accession Number: 20131101-5098.

Comments Due: 5 p.m. ET 11/22/13.

Docket Numbers: ER14-267-000.

Applicants: Midcontinent Independent System Operator, Inc.

Description: Midcontinent Independent System Operator, Inc. submits tariff filing per 35.13(a)(2)(iii): 11-1-2013 Ameren-Centralia WDS Filing to be effective 11/1/2013.

Filed Date: 11/1/13.

Accession Number: 20131101-5099.

Comments Due: 5 p.m. ET 11/22/13.

Docket Numbers: ER14-268-000.

Applicants: Alabama Power Company.

Description: Alabama Power Company submits tariff filing per 35.12: OATT Attachment U and Amended Attachment N Filing to be effective 1/1/2014.

Filed Date: 11/1/13.

Accession Number: 20131101-5103.

Comments Due: 5 p.m. ET 11/22/13.

Docket Numbers: ER14-269-000.

Applicants: Virginia Electric and Power Company, Potomac Electric Power Company, PJM Interconnection, L.L.C.

Description: Virginia Electric and Power Company submits tariff filing per 35.13(a)(2)(iii): Dominion and Pepco submit Interconnection Agreement designated PJM SA No. 3657 to be effective 1/1/2014.

Filed Date: 11/1/13.

Accession Number: 20131101-5105.

Comments Due: 5 p.m. ET 11/22/13.

Docket Numbers: ER14-270-000.

Applicants: ISO New England Inc.

Description: ISO New England Inc. Pawtucket Resource Termination.

Filed Date: 11/1/13.

Accession Number: 20131101-5107.

Comments Due: 5 p.m. ET 11/22/13.

Docket Numbers: ER14-271-000.

Applicants: El Paso Electric Company.

Description: El Paso Electric Company submits tariff filing per 35.13(a)(2)(iii): Rate Schedule No. 112 Nonconforming Firm PTP Service Agreement with PNM to be effective 1/1/2014.

Filed Date: 11/1/13.

Accession Number: 20131101-5121.

Comments Due: 5 p.m. ET 11/22/13.

Docket Numbers: ER14-272-000.

Applicants: Pacific Gas and Electric Company.

Description: Pacific Gas and Electric Company submits tariff filing per 35.15: Notice of Termination of the SGIA for Acciona Solar Energy LLC to be effective 11/4/2013.

Filed Date: 11/1/13.

Accession Number: 20131101-5124.

Comments Due: 5 p.m. ET 11/22/13.

Docket Numbers: ER14-273-000.

Applicants: Entergy Louisiana, LLC.

Description: Entergy Louisiana, LLC submits tariff filing per 35.13(a)(2)(iii): ELL-EGSL/Cleco Implementation Agreement to be effective 12/19/2013.

Filed Date: 11/1/13.

Accession Number: 20131101-5128.

Comments Due: 5 p.m. ET 11/22/13.

Docket Numbers: ER14-274-000.

Applicants: PJM Interconnection, L.L.C.

Description: PJM Interconnection, L.L.C. submits tariff filing per 35.13(a)(2)(iii): Amendments to Schedule 12—Appendix A re RTEP approved by PJM Board on 10/2/2013 to be effective 1/30/2014.

Filed Date: 11/1/13.

Accession Number: 20131101-5132.

Comments Due: 5 p.m. ET 11/22/13.

Docket Numbers: ER14-275-000.

Applicants: DTE Electric Company.

Description: DTE Electric Company submits tariff filing per 35.13(a)(2)(iii): Amendment to Clinton Agreement to be effective 1/1/2014.

Filed Date: 11/1/13.

Accession Number: 20131101-5133.

Comments Due: 5 p.m. ET 11/22/13.

Docket Numbers: ER14-276-000.

Applicants: Transource Missouri, LLC.

Description: Transource Missouri, LLC submits tariff filing per 35.13(a)(2)(iii): TMO Agreement for Licensing Transmission Structures to be effective 1/1/2014.

Filed Date: 11/1/13.

Accession Number: 20131101-5152.

Comments Due: 5 p.m. ET 11/22/13.

Docket Numbers: ER14-277-000.

Applicants: PJM Interconnection, L.L.C.

Description: PJM Interconnection, L.L.C. submits tariff filing per 35.13(a)(2)(iii): Revisions to the OATT & OA re DRS and removing the LSE role from ELRP to be effective 1/1/2014.

Filed Date: 11/1/13.

Accession Number: 20131101-5154.

Comments Due: 5 p.m. ET 11/22/13.

Docket Numbers: ER14-278-000.

Applicants: Southwest Power Pool, Inc.

Description: Southwest Power Pool, Inc. submits tariff filing per 35.13(a)(2)(iii): Schedule 1-A Tariff Administration Service Revisions to be effective 1/1/2014.

Filed Date: 11/1/13.

Accession Number: 20131101-5157.

Comments Due: 5 p.m. ET 11/22/13.

Docket Numbers: ER14-279-000.

Applicants: Midcontinent Independent System Operator, Inc., Interstate Power and Light Company.

Description: Midcontinent Independent System Operator, Inc. submits tariff filing per 35.13(a)(2)(iii): 11-1-2013 Guttenberg WDS Agreements Filing to be effective 1/1/2014.

Filed Date: 11/1/13.

Accession Number: 20131101-5158.

Comments Due: 5 p.m. ET 11/22/13.

Docket Numbers: ER14-280-000.

Applicants: DATC Path 15, LLC.

Description: DATC Path 15, LLC submits tariff filing per 35: DATC Path 15 LLC, Annual Update of TRBAA to be effective 1/1/2014.

Filed Date: 11/1/13.

Accession Number: 20131101-5160.

Comments Due: 5 p.m. ET 11/22/13.

Docket Numbers: ER13-1631-001.

Applicants: Midcontinent Independent System Operator, Inc.

Description: Request for Limited Extension of Waiver of certain tariff provisions until January 15, 2014 of Midcontinent Independent System Operator, Inc.

Filed Date: 11/1/13.

Accession Number: 20131101-5151.

Comments Due: 5 p.m. ET 11/22/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 1, 2013.
Nathaniel J. Davis, Sr.,
Deputy Secretary.

[FR Doc. 2013-26770 Filed 11-7-13; 8:45 am]

BILLING CODE 6717-01-P